NATIONAL SCIENCE FOUNDATION

Notice of Community of Interest Meeting on Future Computing

AGENCY: Networking and Information Technology Research and Development (NITRD) National Coordination Office (NCO), National Science Foundation.

ACTION: Notice of meeting.

SUMMARY: The community of interest (CoI) meeting will focus on the R&D challenges and opportunities in future computing landscape for the coming decade and beyond to ensure that the public, academic, and private sectors are prepared for the new computing modalities.

DATES: August 5-6, 2019.

ADDRESSES: The CoI meeting will be held at the NITRD NCO, Washington, DC. Registration is required for in-person attendance. For more information regarding registration and remote participation, please see the CoI meeting website: https://www.nitrd.gov/nitrdgroups/index.php?title=FC-COI-2019.

FOR FURTHER INFORMATION CONTACT: Email FC-COI@nitrd.gov or call Ji Hyun Lee at (202) 459-9674. Individuals who use a telecommunications device for the deaf (TDD) may call the Federal Information Relay Service (FIRS) at 1-800-877-8339 between 8 a.m. and 8 p.m., Eastern time, Monday through Friday.

SUPPLEMENTARY INFORMATION:

Overview: This notice is issued on behalf of the NITRD High End Computing (HEC) Interagency Working Group (IWG) and the National Strategic Computing Initiative (NSCI) Joint Program Office for Strategic Computing (JPO-SC). Agencies of the HEC IWG and JPO-SC are jointly conducting a CoI meeting focused on future computing. Experts from government, private industry, and academia will discuss emerging and future application drivers, emerging computing paradigms, longer-term future computing possibilities, and identify gaps and opportunities in future computing landscape. The CoI meeting will take place on August 5 from 8:15 a.m. to 5:45 p.m. (ET) and August 6 from 8:30 a.m. to 12:30 p.m. (ET) at the NITRD NCO, Washington, DC. In-person attendance is limited to invitation only due to meeting space limitations; virtual attendance will be available via webcast. The agenda and information about how to join the webcast will be available the week of the event at: https://www.nitrd.gov/nitrdgroups/index.php?title=FC-COI-2019.

Workshop Goals: HEC IWG and JPO-SC will use information gathered from this workshop to help update the strategic computing objectives and to inform agencies in planning of their agency-specific research agenda.

Workshop Objectives: Identify and discuss: Emerging and future HPC applications and their impact on future computing systems and paradigms; emerging computing paradigms and how these technologies can be integrated effectively with existing infrastructures; and longer-term future computing possibilities.

Submitted by the National Science Foundation in support of the Networking and Information Technology Research and Development (NITRD) National Coordination Office (NCO) on July 2, 2019.

Suzanne H. Plimpton,
Reports Clearance Officer, National Science Foundation.

[FR Doc. 2019-14481 Filed 7-8-19; 8:45 am]

BILLING CODE 7555-01-P